DEPARTMENT OF TRANSPORTATION

Federal Railroad Administration

[Docket Number FRA-2003-15432]

BNSF Railway Company; Notice of Extension of Comment Period

The BNSF Railway Company has petitioned the Federal Railroad Administration (FRA) seeking approval to expand the existing waiver, granted on June 23, 2004, from Fort Worth, Texas, milepost 346.67, to Arkansas City, Kansas, milepost 264.11, on the Fort Worth and Red Rock Subdivisions, a distance of approximately 329 miles. This expansion request is identified as Docket No. FRA-2003-15432.

The FRA has issued a public notice seeking comments of interested parties. After examining the railroad's proposal and the comments, FRA determined that a public hearing was necessary before a final decision was made on this proposal. A public hearing was conducted in this matter on February 23, 2006. At the hearing, FRA announced that it would extend the comment period in this proceeding until 10 business days after the transcript of the public hearing is made available on the Department of Transportation's (DOT's) Docket Management System found at http://dms.dot.gov in order to permit interested parties to review the transcript prior to submitting comments.

Accordingly, FRA is extending the comment period in this proceeding until 10 business days after the transcript of the public hearing is posted on DOT's Document Management System. All communications concerning these proceedings should identify the appropriate docket number (e.g., Waiver Petition Docket Number FRA-2003-15432) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on March 3, 2006.
Grady C. Cothen, Jr.,
Deputy Associate Administrator for Safety Standards and Program Development.

[FR Doc. E6-3367 Filed 3-8-06; 8:45 am]

BILLING CODE 4910-06-P